DEPARTMENT OF COMMERCE

National Oceanic and Atmospheric Administration

RIN 0648-XC667

Endangered Species; File No. 17304

AGENCY: National Marine Fisheries Service (NMFS), National Oceanic and Atmospheric Administration (NOAA), Commerce.

ACTION: Notice; receipt of application for a permit modification.

SUMMARY: Notice is hereby given that Kristen Hart, Ph.D., U.S. Geological Survey, 3205 College Ave., Davie, Florida 33314, has requested a modification to scientific research Permit No. 17302-02.

DATES: Written, telefaxed, or email comments must be received on or before April 6, 2017.

ADDRESSES: The modification request and related documents are available for review by selecting “Records Open for Public Comment” from the Features box on the Applications and Permits for Protected Species (APPS) home page, https://apps.nmfs.noaa.gov, and then selecting File No. 17304 mod 4 from the list of available applications. These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Erin Markin or Amy Hapeman, (301) 427-8401.

SUPPLEMENTARY INFORMATION: The subject modification to Permit No. 17304-02, issued on September 20, 2013 (78 FR 59657) is requested under the authority of the Endangered Species Act of 1973, as amended (16 U.S.C. 1531 et seq.) and the regulations governing the taking, importing, and exporting of endangered and threatened species (50 CFR 222-226).

Permit No. 17304-02 authorizes the permit holder to capture by hand, strike nets, dip net, tangle net, or trawl up to 100 green (Chelonia mydas), 20 hawksbill (Eretmochely imbricata), 300 Kemp's ridley (Lepidochelys kempii), and 300 loggerhead (Caretta caretta) sea turtles annually in the Gulf of Mexico from the Florida/Alabama border to the Louisiana/Texas border to determine the distribution, seasonal movements, vital rates and habitat use of sea turtles. Each turtle may be biologically sampled, marked, and/or tagged prior to release. The permit holder requests authorization to: (1) Expand the research area to include waters from the Louisiana/Texas border to the Texas/Mexico border; and (2) increase the number of green sea turtles taken from 100 to 200 animals annually. The permit is valid through September 30, 2018.

Dated: March 1, 2017.
Julia Harrison,
Chief, Permits and Conservation Division, Office of Protected Resources, National Marine Fisheries Service.

[FR Doc. 2017-04390 Filed 3-6-17; 8:45 am]

BILLING CODE 3510-22-P